DEPARTMENT OF TRANSPORTATION

Coast Guard

33 CFR Part 117

[CGD01-01-203]

RIN 2115-AE47

Drawbridge Operation Regulations: Neponset River, MA

AGENCY: Coast Guard, DOT.

ACTION: Temporary final rule.

SUMMARY: The Coast Guard is establishing a temporary final rule governing the operation of the Granite Avenue Bridge, mile 2.5, across the Neponset River between Boston and Milton, Massachusetts. This temporary rule will allow the bridge to remain in the closed position from November 19, 2001 through February 22, 2002. This temporary rule is necessary to facilitate necessary structural repairs at the bridge.

DATES: This temporary rule is effective from November 19, 2001 through February 22, 2002.

ADDRESSES: Documents as indicated in this preamble are available for inspection or copying at the First Coast Guard District Office, 408 Atlantic Avenue, Boston, Massachusetts, 02110, 7 a.m. to 3 p.m., Monday through Friday, except Federal holidays. The telephone number is (617) 223-8364.

FOR FURTHER INFORMATION CONTACT: Mr. John McDonald, Project Officer, First Coast Guard District, at (617) 223-8364.

SUPPLEMENTARY INFORMATION:

Regulatory History

Pursuant to 5 U.S.C. 553, a notice of proposed rulemaking (NPRM) was not published for this regulation. Good cause exists for not publishing a NPRM and for making this regulation effective in less than 30 days after publication in the Federal Register.

This closure is not expected to have any impact on navigation because there have been no requests to open this bridge during the effective date of this closure for the past five years. Vessel traffic that uses this bridge is comprised of recreational vessels that are normally in storage during the winter months. Accordingly, an NPRM was considered unnecessary and any delay in the rule's effective date is considered contrary to the public interest because this work is necessary maintenance that must be performed without undue delay to assure safe, reliable operation of the bridge.

Background and Purpose

The Granite Avenue Bridge has a vertical clearance in the closed position of 6 feet at mean high water and 16 feet at mean low water. The existing drawbridge operating regulations listed at 33 CFR 117.611 require the bridge to open on signal, from May 1 through October 31, 6 a.m. to 12 midnight. At all other times the bridge shall open on signal if at least a one-hour notice is given.

The bridge owner, Massachusetts Highway Department, requested a temporary rule change to facilitate structural maintenance and replacement of the bridge roadway deck at the bridge.

This temporary rule will allow the bridge to remain in the closed position from November 19, 2001 through February 22, 2002. The Coast Guard believes this rulemaking is reasonable because navigation should not be impacted since there have been no requests to open the Granite Avenue Bridge November through February during the past five years.

Regulatory Evaluation

This temporary final rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; Feb. 26, 1979). The Coast Guard expects the economic impact of this temporary final rule to be so minimal that a full Regulatory Evaluation under paragraph 10e of the regulatory policies and procedures of DOT is unnecessary. This conclusion is based on the fact that the bridge has not received any requests to open during the requested closure period for the past five years.

Small Entities

Under the Regulatory Flexibility Act (5 U.S.C. 601-612) we considered whether this temporary final rule would have a significant economic impact on a substantial number of small entities. “Small entities” comprises small businesses, not-for profit organizations that are independently owned and operated and are not dominant in their fields, and governmental jurisdictions with populations less than 50,000.

The Coast Guard certifies under 5 U.S.C. 605(b) that this rule will not have a significant economic impact on a substantial number of small entities. This conclusion is based on the fact that the bridge has not received any requests to open during the requested closure period for the past five years.

Collection of Information

This temporary final rule does not provide for a collection of information under the Paperwork Reduction Act of 1995 (44 U.S.C. 3501 et seq.).

Federalism

The Coast Guard has analyzed this temporary final rule in accordance with the principles and criteria contained in Executive Order 12612 and has determined that this temporary final rule does not have sufficient federalism implications to warrant the preparation of a Federalism Assessment.

Environment

The Coast Guard considered the environmental impact of this temporary final rule and concluded that, under Section 2.B.2., Figure 2-1, paragraph (32)(e), of Commandant Instruction M16475.1C, this temporary final rule is categorically excluded from further environmental documentation because promulgation of changes to drawbridge regulations have been found not to have a significant effect on the environment. A written “Categorical Exclusion Determination” is not required for this temporary final rule.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From November 19, 2001 through February 22, 2002, in § 117.611, paragraph (a) is temporarily suspended and a new paragraph (c) is added to read as follows:

§ 117.611 Neponset River.

* * * * *

(c) The Granite Avenue Bridge need not open for the passage of vessel traffic.

Dated: November 8, 2001.
G.N. Naccara,
Rear Admiral, U.S. Coast Guard, Commander, First Coast Guard District.

[FR Doc. 01-28966 Filed 11-19-01; 8:45 am]

BILLING CODE 4910-15-U